DEPARTMENT OF COMMERCE

National Oceanic and Atmospheric Administration

[RTID 0648-XA853]

Fisheries of the Caribbean, Gulf of Mexico, and South Atlantic; Exempted Fishing Permits

AGENCY: National Marine Fisheries Service (NMFS), National Oceanic and Atmospheric Administration (NOAA), Commerce.

ACTION: Notice of receipt of an application for exempted fishing permit; request for comments.

SUMMARY: NMFS announces the receipt of an application for an exempted fishing permit (EFP) from Dr. David Portnoy, Texas A&M University, Corpus Christi. If granted, the EFP would allow a limited harvest of speckled hind in South Atlantic Federal waters by select commercial fishermen. The samples collected would be used to assess the speckled hind population structure, genetic diversity, and life history in the South Atlantic.

DATES: Written comments must be received on or before March 12, 2021.

ADDRESSES: You may submit comments on the application, identified by “NOAA-NMFS-2021-0007” by any of the following methods:

• Electronic Submission: Submit all electronic public comments via the Federal e-Rulemaking Portal. Go to https://www.regulations.gov and enter “NOAA-NMFS-2021-0007” in the Search box. Click on the “Comment” icon, complete the required fields, and enter or attach your comments.

• Mail: Submit written comments to Frank Helies, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc), confidential business information, or otherwise sensitive information submitted voluntarily by the sender will be publicly accessible. NMFS will accept anonymous comments (enter “N/A” in the required fields if you wish to remain anonymous).

Electronic copies of the EFP application may be obtained from the Southeast Regional Office website at https://www.fisheries.noaa.gov/southeast/about-us/south-atlantic-speckled-hind-exempted-fishing-permit-application/.

FOR FURTHER INFORMATION CONTACT: Frank Helies, 727-824-5305; email: frank.helies@noaa.gov.

SUPPLEMENTARY INFORMATION: The EFP is requested under the authority of the Magnuson-Stevens Fishery Conservation and Management Act (Magnuson-Stevens Act; 16 U.S.C 1801 et seq.), and regulations at 50 CFR 600.745(b) concerning exempted fishing.

Currently, Federal regulations at 50 CFR 622.181 (b)(3) prohibit the harvest and possession of speckled hind in or from South Atlantic Federal waters. Speckled hind are sedentary, long-lived, deep-water groupers and are considered to be undergoing overfishing in the U.S. South Atlantic. There are no known data regarding the stock structure of speckled hind in South Atlantic waters and little is known about their biology; consequently, there are not enough data to accurately determine whether the species is overfished.

Dr. Portnoy was awarded a Marine Fisheries Initiative grant to assess the population structure, genetic diversity, and life history of speckled hind in the U.S. South Atlantic. Beginning in 2018, Dr. Portnoy has already acquired some of his project's needed speckled hind samples from fishery independent surveys conducted by NMFS and the South Carolina Department of Natural Resources. However, as a result of low encounter rates with the species since 2018, and reduced fishery independent survey effort in 2020, additional samples will need to be collected through this EFP to obtain a sufficient number of samples for the project.

If granted, the EFP would be valid through August 31, 2022, and would allow a limited harvest of up to 40 speckled hind per calendar year (up to 80 total for the duration of the EFP) in the Federal waters of the South Atlantic. The EFP would exempt select commercial fishermen from Federal regulations prohibiting the harvest and possession of speckled hind in Federal waters of the South Atlantic at 50 CFR 622.181(b)(3). Because speckled hind would be harvested incidentally during routine commercial fishing trips, NMFS does not expect that any additional environmental impacts would occur through the issuance of the EFP.

Dr. Portnoy proposes to collect speckled hind from select commercial fishermen who occasionally encounter speckled hind in South Atlantic Federal waters during routine commercial fishing operations. Currently, two commercial fishermen have volunteered to participate in the EFP while using hook-and-line gear fishing in South Atlantic Federal waters in depths ranging from 70 ft (21 m) to 600 ft (183 m). If the fishermen encounter a speckled hind, a fin clip would be taken from the harvested speckled hind and shipped to the Marine Genomics Laboratory at Texas A&M University, Corpus Christi, Texas. The sampled fin clip would be used for genetic studies. All sampled speckled hind carcasses would be shipped to the NMFS Southeast Fisheries Science Center for otolith extraction to determine age and growth parameters. The results of the EFP are expected to contribute to improved understanding of speckled hind population structure, genetic diversity, and life history in the U.S. South Atlantic. The EFP results could help support future scientific and management decisions for the speckled hind stock in the South Atlantic.

NMFS finds the application warrants further consideration based on a preliminary review. Possible conditions the agency may impose on the permit, if granted, include but are not limited to, a prohibition on fishing within marine protected areas, marine sanctuaries, or special management zones without additional authorization. A final decision on issuance of the EFP will depend on NMFS' review of public comments received on the application, consultations with the appropriate fishery management agencies of the affected states, the South Atlantic Fishery Management Council, and the U.S. Coast Guard, and a determination that the activities to be taken under the EFP are consistent with all other applicable laws.

Authority: 16 U.S.C 1801 et seq.

Dated: February 22, 2021.
Jennifer M. Wallace,
Acting Director, Office of Sustainable Fisheries, National Marine Fisheries Service.

[FR Doc. 2021-03889 Filed 2-24-21; 8:45 am]

BILLING CODE 3510-22-P